DEPARTMENT OF DEFENSE

Department of the Army

Notice of Intent To Grant Exclusive Patent License to Cardiovascular Resonance LLC

AGENCY: Department of the Army, DoD.

ACTION: Notice of intent.

SUMMARY: In compliance with 37 CFR part 404 et seq., the Department of the Army hereby gives notice of its intent to grant to Cardiovascular Resonance LLC, a corporation having its principle place of business at 517 A Spring Forest Road, Greenville, NC 27834-7254, an exclusive license relative to an ARL patent; US patent # 5,853,005, issued December 29, 1998, entitled “Acoustic Monitoring System”; Mike Scanlon inventor.

DATES: Anyone wishing to object to the grant of this license must file written objections along with supporting evidence, if any, not later than 15 days from the date of this notice.

ADDRESSES: Send written objectives to Michael D. Rausa, U.S. Army Research Laboratory, Office of Research and Technology Applications, Attn: AMSRD-ARL-DP-T/Bldg. 434, Aberdeen Proving Ground, MD 21005-5425.

FOR FURTHER INFORMATION CONTACT: Michael D. Rausa, telephone (410) 278-5028.

SUPPLEMENTARY INFORMATION: None.

Brenda S. Bowen,
Army Federal Register Liaison Officer.

[FR Doc. 06-6392 Filed 7-20-06; 8:45 am]

BILLING CODE 3710-08-M